DEPARTMENT OF COMMERCE

International Trade Administration

[A-583-844]

Narrow Woven Ribbons With Woven Selvedge From Taiwan: Preliminary Results of Antidumping Duty Administrative Review and Preliminary Determination of No Shipments; 2016-2017

AGENCY: Enforcement and Compliance, International Trade Administration, Department of Commerce.

SUMMARY: The Department of Commerce (Commerce) preliminarily determines that sales of subject merchandise to the United States have been made at prices below normal value during the period of review (POR) September 1, 2016, through August 31, 2017. Further, Commerce preliminarily finds that Banduoo Ltd. (Banduoo), Fujian Rongshu Industry Co., Ltd. (Fujian Rongshu), Roung Shu Industry Corporation (Roung Shu), and Xiamen Yi-He Textile Co., Ltd. (Xiamen Yi-He) made no shipments of subject merchandise during the POR. We invite all interested parties to comment on these preliminary results.

DATES: Applicable October 9, 2018.

FOR FURTHER INFORMATION CONTACT: David Crespo, AD/CVD Operations, Office II, Enforcement and Compliance, International Trade Administration, U.S. Department of Commerce, 1401 Constitution Avenue NW, Washington, DC 20230; telephone: (202) 482-3693.

SUPPLEMENTARY INFORMATION:

Scope of the Order

The merchandise subject to this order covers narrow woven ribbons with woven selvedge.¹ The merchandise subject to this order is classifiable under the Harmonized Tariff Schedule of the United States (HTSUS) statistical categories 5806.32.1020; 5806.32.1030; 5806.32.1050; and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. The HTSUS statistical categories and subheadings are provided for convenience and customs purposes; however, the written description of the merchandise covered by this order is dispositive.

¹ For a complete description of the scope of the order, see Memorandum, “Decision Memorandum for the Preliminary Results of the (2014-2015) Administrative Review of the Antidumping Duty Order on Narrow Woven Ribbons with Woven Selvedge from Taiwan” (Preliminary Decision Memorandum), dated concurrently with and hereby adopted by this notice.

Methodology

Commerce is conducting this review in accordance with section 751(a)(2) of the Tariff Act of 1930, as amended (the Act). Because mandatory respondent Ming Wei Co., Ltd. (Ming Wei) withdrew from participation in the administrative review and failed to respond to Commerce's questionnaire, we preliminarily determine to apply adverse facts available (AFA) to this respondent, in accordance with sections 776(a) and (b) of the Act and 19 CFR 351.308. For a full discussion of the rationale underlying our preliminary results, see the Preliminary Decision Memorandum.

A list of the topics included in the Preliminary Decision Memorandum is attached as an Appendix to this notice. The Preliminary Decision Memorandum is a public document and is on file electronically via Enforcement and Compliance's Antidumping and Countervailing Duty Centralized Electronic Service System (ACCESS). ACCESS is available to registered users at https://access.trade.gov, and it is available to all parties in the Central Records Unit, Room B-8024 of the main Department of Commerce building. In addition, a complete version of the Preliminary Decision Memorandum can be accessed directly at http://enforcement.trade.gov/frn/. The signed and the electronic versions of the Preliminary Decision Memorandum are identical in content.

Preliminary Determination of No Shipments

On November 20, 2017, and November 30, 2017, Fujian Rongshu, Roung Shu, and Xiamen Yi-He, and Banduoo, respectively, timely filed statements reporting that they made no shipments of subject merchandise to the United States during the POR. Subsequently, we received information from U.S. Customs and Border Protection (CBP) confirming the no shipment claims from Banduoo, Fujian Rongshu, and Xiamen Yi-He.

With respect to Roung Shu, we determined that it was necessary to request additional information from CBP and Roung Shu related to various POR entries of merchandise produced by Roung Shu. After reviewing the additional information provided by Roung Shu,² we preliminarily determine that Roung Shu had no shipments during the POR.

² See Roung Shu's Letter re: Narrow Woven Ribbons with Woven Selvedge from Taiwan: Roung Shu's Response to the Department's May 2, 2018 Questions, dated May 16, 2018, and Roung Shu's Letter re: Narrow Woven Ribbons with Woven Selvedge from Taiwan: Roung Shu's Response to the Department's May 22, 2018 Supplemental Questionnaire, dated May 25, 2018. In these submissions, Roung Shu provided documentation to demonstrate that it only exported non-subject ribbon to the United States during the POR.

Based on the foregoing, Commerce preliminarily determines that Banduoo, Fujian Rongshu, Roung Shu, and Xiamen Yi-He had no shipments during the POR. For additional information regarding this determination, see the Preliminary Decision Memorandum. Consistent with our practice, we are not preliminarily rescinding the review with respect to Banduoo, Fujian Rongshu, Roung Shu, and Xiamen Yi-He but, rather, we will complete the review with respect to these companies and issue appropriate instructions to CBP based on the final results of this review.³

³ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR at 51306 (August 28, 2014).

Preliminary Results of the Review

Commerce preliminarily determines that the following weighted-average dumping margin exists:

Producer/exporter | Dumping margin (percent)
Ming Wei Co., Ltd | 137.20

Public Comment

Interested parties may submit case briefs to Commerce no later than 30 days after the date of publication of this notice.⁴ Rebuttal briefs, limited to issues raised in the case briefs, may be filed no later than five days after the time limit for filing case briefs.⁵ Parties who submit case briefs or rebuttal briefs in this proceeding are encouraged to submit with each argument: (1) A statement of the issue; (2) a brief summary of the argument; and (3) a table of authorities.⁶ Case and rebuttal briefs should be filed using ACCESS.⁷

⁴ See 19 CFR 351.309(c).

⁵ See 19 CFR 351.309(d)

⁶ See 19 CFR 351.309(c)(2) and (d)(2).

⁷ See 19 CFR 351.303.

Pursuant to 19 CFR 351.310(c), interested parties who wish to request a hearing must submit a written request to the Assistant Secretary for Enforcement and Compliance, filed electronically via ACCESS. An electronically-filed document must be received successfully in its entirety by ACCESS by 5:00 p.m. Eastern Time within 30 days after the date of publication of this notice.⁸ Hearing requests should contain: (1) The party's name, address, and telephone number; (2) the number of participants; and (3) a list of issues to be discussed. Issues raised in the hearing will be limited to issues raised in the briefs. If a request for a hearing is made, parties will be notified of the time and date for the hearing to be held at the U.S. Department of Commerce, 1401 Constitution Avenue NW, Washington, DC 20230.⁹

⁸ See 19 CFR 351.310(c).

⁹ Id.

Commerce intends to issue the final results of this administrative review, including the results of its analysis raised in any written briefs, not later than 120 days after the publication date of this notice, pursuant to section 751(a)(3)(A) of the Act.

Assessment Rates

Upon issuance of the final results, Commerce shall determine, and CBP shall assess, antidumping duties on all appropriate entries covered by this review.¹⁰ We will instruct CBP to assess antidumping duties on all appropriate entries covered by this review. Where assessments are based upon total facts available, including AFA, we instruct CBP to assess duties at the AFA margin rate. The final results of this review shall be the basis for the assessment of antidumping duties on entries of merchandise covered by the final results of this review and for future deposits of estimated duties, where applicable.¹¹

¹⁰ See 19 CFR 351.212(b)(1).

¹¹ See section 751(a)(2)(C) of the Act.

Further, if we continue to find in the final results that Banduoo, Fujian Rongshu, Roung Shu, and Xiamen Yi-He had no shipments of subject merchandise during the POR, we will instruct CBP to liquidate any suspended entries that entered under their antidumping duty case numbers (i.e., at that exporter's rate) at the all-others rate if there is no rate for the intermediate company(ies) involved in the transaction. We intend to issue liquidation instructions to CBP 15 days after publication of the final results of this review.

Cash Deposit Requirements

The following deposit requirements will be effective upon publication of the notice of final results of administrative review for all shipments of the subject merchandise entered, or withdrawn from warehouse, for consumption on or after the date of publication as provided by section 751(a)(2)(C) of the Act: (1) The cash deposit rate for Ming Wei will be that established in the final results of this review; (2) for merchandise exported by manufacturers or exporters not covered in this review but covered in a prior segment of the proceeding, the cash deposit rate will continue to be the company-specific rate published for the most recently completed segment; (3) if the exporter is not a firm covered in this review, or the original investigation, but the manufacturer is, the cash deposit rate will be the rate established for the most recently completed segment for the manufacturer of the merchandise; and (4) the cash deposit rate for all other manufacturers or exporters will continue to be 4.37 percent, the all-others rate determined in the less-than-fair-value investigation.¹² These cash deposit requirements, when imposed, shall remain in effect until further notice.

¹² See Narrow Woven Ribbons With Woven Selvedge from Taiwan and the People's Republic of China: Amended Antidumping Duty Orders, 75 FR 56982, 56985 (September 17, 2010).

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

We are issuing and publishing these results in accordance with sections 751(a)(1) and 777(i)(1) of the Act.

Dated: October 2, 2018.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Scope of the Order

IV. Preliminary Determination of No Shipments

V. Application of Facts Available and Adverse Inferences

A. Use of Facts Otherwise Available

B. Application of Facts Available With an Adverse Inference

C. Selection and Corroboration of Adverse Facts Available Rate

VI. Recommendation

[FR Doc. 2018-21849 Filed 10-5-18; 8:45 am]

BILLING CODE 3510-DS-P